ENVIRONMENTAL PROTECTION AGENCY

40 CFR Part 63

[OAR-2002-0054 and OAR-2002-0055, FRL-7459-9]

RIN 2060-A167 and 2060-A168

National Emission Standards for Hazardous Air Pollutants for Brick and Structural Clay Products Manufacturing; and National Emission Standards for Hazardous Air Pollutants for Clay Ceramics Manufacturing

Correction

In rule document 03-5739 beginning on page 26690 in the issue of Friday, May 16, 2003, make the following corrections:

§63.8395 [Corrected]

On page 26723, in the first column, in §63.8395(b), in the last line “May 16, 2003” should read “May 16, 2006”.

§63.8545 [Corrected]

On page 26739, in the third column, in §63.8545(b), in the last line “May 16, 2003” should read “May 16, 2006”.

[FR Doc. C3-5739 Filed 5-27-03; 8:45 am]

BILLING CODE 1505-01-D